DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) shows BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL)Modified
Unincorporated Areas of Mineral County, Nevada | Docket No.: FEMA-B-1221
Nevada | Unincorporated Areas of Mineral County | Cottonwood Creek | Approximately 1,400 feet north of the intersection of Marian Drive and U.S. Route 95 | #1
Nevada | Unincorporated Areas of Mineral County | Mina Fan | Approximately 1,584 feet southwest of the intersection of Cross Street and U.S. Route 95 | #1
|  |  | Approximately 1.8 miles southwest of the intersection of 1st Street and U.S. Route 95 | #1
|  |  | Approximately 2.0 miles southwest of the intersection of Cross Street and U.S. Route 95 | #1
|  |  | Approximately 0.7 mile southwest of the intersection of 1st Street and U.S. Route 95 | #1
* National Geodetic Vertical Datum.
+ North American Vertical Datum.
# Depth in feet above ground.
‸ Mean Sea Level, rounded to the nearest 0.1 meter.
ADDRESSES
Unincorporated Areas of Mineral County
Maps are available for inspection at 105 South A Street, Suite 1, Hawthorne, NV 89415.

Flooding source(s) | Location of referenced elevation | * Elevation in feet (NGVD) + Elevation in feet (NAVD) # Depth in feet above ground ‸ Elevation in meters (MSL) Modified | Communities affected
Cameron Parish, Louisiana, and Incorporated Areas | Docket No.: FEMA-B-1020
Calcasieu Lake | Base Flood Elevation Changes ranging from 8 to 16 feet in the form of Coastal AE/VE Zones have been made | +8-16 | Unincorporated Areas of Cameron Parish.
Grand Lake/Mermentau Lake | Base Flood Elevation Changes ranging from 8 to 11 feet in the form of Coastal AE/VE Zones have been made | +8-11 | Unincorporated Areas of Cameron Parish.
Gulf of Mexico | Base Flood Elevation Changes ranging from 6 to 22 feet in the form of Coastal AE/VE Zones have been made | +6-22 | Unincorporated Areas of Cameron Parish.
Sabine Lake | Base Flood Elevation Changes ranging from 10 to 14 feet in the form of Coastal VE Zones have been made | +10-14 | Unincorporated Areas of Cameron Parish.
White Lake | Base Flood Elevation Changes ranging from 8 to 12 feet in the form of Coastal VE Zones have been made for transects extended from White Lake into Cameron Parish from Vermillion Parish | +8-12 | Unincorporated Areas of Cameron Parish.
* National Geodetic Vertical Datum.
+ North American Vertical Datum.
# Depth in feet above ground.
‸ Mean Sea Level, rounded to the nearest 0.1 meter.
ADDRESSES
Unincorporated Areas of Cameron Parish
Maps are available for inspection at 119 Smith Circle, Cameron, LA 70631.
Williamsburg County, South Carolina, and Incorporated Areas | Docket Nos.: FEMA-B-1185 and B-1207
Apple Orchard Slough | Approximately 1.4 miles upstream of the Great Pee Dee River confluence | +29 | Unincorporated Areas of Williamsburg County.
| Approximately 2.6 miles upstream of the Great Pee Dee River confluence | +29
Bennett Swamp | At the Dickey Swamp confluence | +50 | Unincorporated Areas of Williamsburg County.
| Approximately 1.2 miles upstream of Eddie Woods Road | +61
Big Dam Swamp | At the upstream side of County Line Road | +20 | Unincorporated Areas of Williamsburg County.
| Approximately 2.6 miles upstream of County Line Road | +24
Birch Creek | At the downstream side of Thurgood Marshall Highway | +15 | Unincorporated Areas of Williamsburg County.
| Approximately 0.5 mile upstream of Birch Creek Road | +31
Black Mingo Creek | At the upstream side of County Line Road | +14 | Unincorporated Areas of Williamsburg County.
| Approximately 2.3 miles upstream of Battery Park Road | +27
Boggy Swamp A | At the Black Mingo Creek confluence | +25 | Unincorporated Areas of Williamsburg County.
| Approximately 0.9 mile upstream of Hemingway Highway | +33
Boggy Swamp B | Approximately 0.9 mile upstream of the Black River confluence | +35 | Unincorporated Areas of Williamsburg County.
| Approximately 3.7 miles upstream of Thurgood Marshall Highway | +58
Burnett Swamp | At the Black Mingo Creek confluence | +15 | Unincorporated Areas of Williamsburg County.
| Approximately 1.3 miles upstream of Nesmith Road | +23
Cain Branch | At the Newman Branch confluence | +63 | Unincorporated Areas of Williamsburg County.
| At the upstream side of McIntosh Road | +67
Camden Swamp | Approximately 0.4 mile downstream of Sims Reach Road | +28 | Unincorporated Areas of Williamsburg County.
| Approximately 0.4 mile upstream of Sims Reach Road | +34
Campbell Swamp | At the Black Mingo Creek confluence | +15 | Unincorporated Areas of Williamsburg County.
| Approximately 0.6 mile upstream of Turner Road | +25
Cedar Branch | At the Soccee Swamp confluence | +32 | Unincorporated Areas of Williamsburg County.
| Approximately 511 feet upstream of Cockfield Road | +51
Cedar Swamp | At the Black Mingo Creek confluence | +28 | Unincorporated Areas of Williamsburg County.
| Approximately 0.7 mile upstream of Cedar Swamp Road | +45
Clapps Swamp | Approximately 0.4 mile upstream of the Black River confluence | +51 | Unincorporated Areas of Williamsburg County.
| Approximately 0.7 mile upstream of Hebron Road | +69
Clarks Creek | At the Great Pee Dee River confluence | +29 | Unincorporated Areas of Williamsburg County.
| Approximately 2.8 miles upstream of the Great Pee Dee River confluence | +29
Dickey Swamp | Approximately 0.7 mile downstream of Old Gapway Road | +41 | Unincorporated Areas of Williamsburg County.
| Approximately 416 feet downstream of Williamsburg County Highway South | +48
Flat Creek | At the Johnsons Swamp confluence | +35 | Unincorporated Areas of Williamsburg County.
| Approximately 0.9 mile upstream of Aimwell Road | +43
Grahams Mills Branch | At the Smiths Swamp confluence | +57 | Unincorporated Areas of Williamsburg County.
| Approximately 160 feet upstream of McClary Road | +59
Gully Branch | At the Black Mingo Creek confluence | +17 | Unincorporated Areas of Williamsburg County.
| Approximately 0.8 mile upstream of the Black Mingo Creek confluence | +23
Headless Creek | At the Black Mingo Creek confluence | +15 | Unincorporated Areas of Williamsburg County.
| Approximately 0.3 mile upstream of Nesmith Road | +22
Hell Hole Branch | At the Birch Creek confluence | +32 | Unincorporated Areas of Williamsburg County.
| Approximately 0.6 mile upstream of the Hell Hole Branch Tributary 1 confluence | +43
Home Swamp | At the Cedar Swamp confluence | +40 | Unincorporated Areas of Williamsburg County.
| Approximately 1.0 mile upstream of the Cedar Swamp confluence | +46
Hughs Branch | At the Poplar Hill Branch confluence | +15 | Unincorporated Areas of Williamsburg County.
| Approximately 67 feet upstream of State Highway 41/51 | +28
Indiantown Swamp | At the Black Mingo Creek confluence | +19 | Town of Stuckey, Unincorporated Areas of Williamsburg County.
| Approximately 0.9 mile upstream of Mount Carmel Road | +36
Jacks Creek | At the Black Mingo Creek confluence | +15 | Unincorporated Areas of Williamsburg County.
| Approximately 0.8 mile upstream of Nesmith Road | +28
James Branch | At the Indiantown Swamp confluence | +33 | Unincorporated Areas of Williamsburg County.
| Approximately 0.6 mile upstream of the Indiantown Swamp confluence | +36
Johnson Branch | At the Black Mingo Creek confluence | +15 | Unincorporated Areas of Williamsburg County.
| Approximately 0.6 mile upstream of the Black Mingo Creek confluence | +20
Johnsons Swamp | Approximately 1.2 miles downstream of Gapway Road | +15 | Unincorporated Areas of Williamsburg County.
| Approximately 0.5 mile upstream of Earle Road | +34
Kingstree Swamp | At the Black River confluence | +43 | Town of Kingstree, Unincorporated Areas of Williamsburg County.
| Approximately 0.3 mile upstream of Sandy Bay Road | +48
Lake Swamp | At the upstream side of Old Georgetown Road | +42 | Unincorporated Areas of Williamsburg County.
| At the upstream side of Five Bridges Road | +58
Log Branch | At the Johnsons Swamp confluence | +35 | Unincorporated Areas of Williamsburg County.
| Approximately 0.3 mile upstream of the Johnsons Swamp confluence | +37
Long Branch | At the Clapps Swamp confluence | +69 | Unincorporated Areas of Williamsburg County.
| Approximately 1.4 miles upstream of Twin Lakes Road | +77
McGirts Swamp | At the Dickey Swamp confluence | +42 | Unincorporated Areas of Williamsburg County.
| Approximately 101 feet upstream of Nelson Hill Road | +60
McKnight Swamp | At the Paisley Swamp confluence | +32 | Unincorporated Areas of Williamsburg County.
| Approximately 3.1 miles upstream of the Paisley Swamp confluence | +42
McNamee Swamp | At the Singleton Swamp confluence | +53 | Unincorporated Areas of Williamsburg County.
| Approximately 1.8 miles upstream of Cade Road | +64
Mill Branch B | At the Johnsons Swamp confluence | +27 | Unincorporated Areas of Williamsburg County.
| Approximately 0.5 mile upstream of Earle Road | +34
Mill Branch Tributary 1 | At the Mill Branch B confluence | +28 | Unincorporated Areas of Williamsburg County.
| Approximately 110 feet upstream of Earle Road | +35
Mill Creek A | At the Muddy Creek confluence | +29 | Unincorporated Areas of Williamsburg County.
| Approximately 100 feet upstream of Muddy Creek Road | +42
Mount Hope Swamp | Approximately 2.9 miles upstream of the Santee River confluence | +56 | Unincorporated Areas of Williamsburg County.
| Approximately 0.8 mile upstream of Old Forreston Road | +74
Muddy Creek | At the Clarks Creek confluence | +29 | Town of Hemingway, Unincorporated Areas of Williamsburg County.
| Approximately 0.3 mile upstream of East Broad Street | +50
Mulberry Branch | At the Dickey Swamp confluence | +50 | Unincorporated Areas of Williamsburg County.
| Approximately 745 feet upstream of Mulberry Road | +52
Murray Swamp | At the Johnsons Swamp confluence | +18 | Unincorporated Areas of Williamsburg County.
| Approximately 125 feet upstream of Tad Road | +41
Newman Branch | At the Pudding Swamp confluence | +62 | Unincorporated Areas of Williamsburg County.
| Approximately 1.3 miles upstream of the Pudding Swamp confluence | +64
Ox Swamp | At the Black River confluence | +29 | Unincorporated Areas of Williamsburg County.
| Approximately 1,635 feet upstream of U.S. Route 521 | +30
Paisley Swamp | At the Black Mingo Creek confluence | +28 | Unincorporated Areas of Williamsburg County.
| At the McKnight Swamp confluence | +31
Paisley Swamp Tributary 1 | At the Paisley Swamp confluence | +31 | Unincorporated Areas of Williamsburg County.
| Approximately 1,300 feet upstream of Cade Road | +36
Paisley Swamp Tributary 2 | At the Paisley Swamp confluence | +32 | Unincorporated Areas of Williamsburg County.
| Approximately 0.7 mile upstream of the Paisley Swamp confluence | +34
Poplar Hill Branch | At the Black Mingo Creek confluence | +15 | Unincorporated Areas of Williamsburg County.
| Approximately 0.7 mile upstream of Radio Road | +26
Pudding Swamp | At the Black River confluence | +54 | Unincorporated Areas of Williamsburg County.
| Approximately 2.0 miles upstream of Burgess Crossing Road | +64
Rocky Ford Swamp | At the McGirts Swamp confluence | +48 | Unincorporated Areas of Williamsburg County.
| Approximately 0.7 mile upstream of the McGirts Swamp confluence | +58
Roper Branch | At the Big Dam Swamp confluence | +21 | Unincorporated Areas of Williamsburg County.
| At the upstream side of County Line Road | +21
Singleton Swamp | At the Lake Swamp confluence | +48 | Unincorporated Areas of Williamsburg County.
| Approximately 0.8 mile upstream of Five Bridges Road | +56
Sleeper Branch | At the Big Dam Swamp confluence | +21 | Unincorporated Areas of Williamsburg County.
| Approximately 0.4 mile upstream of the Big Dam Swamp confluence | +21
Smith Swamp | At the downstream side of Browns Ferry Road | +9 | Unincorporated Areas of Williamsburg County.
| Approximately 3.6 miles upstream of Browns Ferry Road | +28
Smiths Swamp | At the Singleton Swamp confluence | +57 | Unincorporated Areas of Williamsburg County.
| Approximately 2.4 miles upstream of Tomlinson Road | +74
Soccee Swamp | At the Clarks Creek confluence | +29 | Unincorporated Areas of Williamsburg County.
| Approximately 1.3 miles upstream of Hemingway Highway | +35
Spring Branch A | At the Clapps Swamp confluence | +65 | Unincorporated Areas of Williamsburg County.
| Approximately 826 feet upstream of Spring Bank Road | +71
Spring Gully | At the Black River confluence | +23 | Unincorporated Areas of Williamsburg County.
| Approximately 1.5 miles upstream of the Black River confluence | +28
Stony Run Branch | Approximately 1,013 feet downstream of U.S. Route 521 | +37 | Unincorporated Areas of Williamsburg County.
| Approximately 3.0 miles upstream of U.S. Route 521 | +54
Thorntree Swamp | Approximately 0.5 mile downstream of U.S. Route 521 | +38 | Town of Lane, Unincorporated Areas of Williamsburg County.
| Approximately 0.8 mile upstream of 10th Street | +70
Turkey Creek | At the Black Mingo Creek confluence | +27 | Unincorporated Areas of Williamsburg County.
| Approximately 1.3 miles upstream of Battery Park Road | +33
Unnamed Tributary 1 | At the Pudding Swamp confluence | +58 | Unincorporated Areas of Williamsburg County.
| Approximately 0.7 mile upstream of McIntosh Road | +77
Unnamed Tributary 10 | At the Mount Hope Swamp confluence | +56 | Unincorporated Areas of Williamsburg County.
| Approximately 1.3 miles upstream of the Mount Hope Swamp confluence | +61
Unnamed Tributary 18 | At the Johnsons Swamp confluence | +25 | Unincorporated Areas of Williamsburg County.
| At the upstream side of Oakridge Road | +29
Unnamed Tributary 2 | At the Singleton Swamp confluence | +48 | Unincorporated Areas of Williamsburg County.
| Approximately 0.5 mile upstream of the Singleton Swamp confluence | +54
Unnamed Tributary 20 | At the Johnsons Swamp confluence | +23 | Unincorporated Areas of Williamsburg County.
| At the upstream side of County Line Road | +23
Unnamed Tributary 22 | At the Johnsons Swamp confluence | +20 | Unincorporated Areas of Williamsburg County.
| Approximately 0.4 mile upstream of the Johnsons Swamp confluence | +22
Unnamed Tributary 24 | At the Birch Creek confluence | +19 | Unincorporated Areas of Williamsburg County.
| Approximately 0.4 mile upstream of the Birch Creek confluence | +24
Unnamed Tributary 27 | At the Smith Swamp confluence | +25 | Unincorporated Areas of Williamsburg County.
| At the downstream side of County Line Road | +31
Unnamed Tributary 29 | At the Burnett Swamp confluence | +15 | Unincorporated Areas of Williamsburg County.
| Approximately 0.9 mile upstream of the Burnett Swamp confluence | +37
Unnamed Tributary 3 | At the Lake Swamp confluence | +48 | Unincorporated Areas of Williamsburg County.
| Approximately 0.6 mile upstream of the Lake Swamp confluence | +50
Unnamed Tributary 37 | At the Black Mingo Creek confluence | +16 | Unincorporated Areas of Williamsburg County.
| Approximately 1.3 miles upstream of the Black Mingo Creek confluence | +24
Unnamed Tributary 44 | At the Soccee Swamp confluence | +29 | Unincorporated Areas of Williamsburg County.
| At the upstream side of County Line Road | +37
Unnamed Tributary 49 | At the Muddy Creek confluence | +34 | Town of Hemingway, Unincorporated Areas of Williamsburg County.
| Approximately 1,160 feet upstream of East Broad Street | +49
Unnamed Tributary 50 | At the Black River confluence | +42 | Town of Kingstree, Unincorporated Areas of Williamsburg County.
| Approximately 0.6 mile upstream of Eastland Avenue | +61
Unnamed Tributary 50_2 | At the Unnamed Tributary 50 confluence | +46 | Town of Kingstree, Unincorporated Areas of Williamsburg County.
| Approximately 0.6 mile upstream of Eastland Avenue | +60
Unnamed Tributary 6 | Approximately 200 feet downstream of County Line Road | +38 | Unincorporated Areas of Williamsburg County.
| Approximately 250 feet upstream of Claire Road | +44
Unnamed Tributary 7 | At the Soccee Swamp confluence | +29 | Unincorporated Areas of Williamsburg County.
| Approximately 0.6 mile upstream of East Lawrimore Road | +43
Unnamed Tributary 9 | At the Mount Hope Swamp confluence | +70 | Unincorporated Areas of Williamsburg County.
| Approximately 0.4 mile upstream of Old Forreston Road | +76
Walden Branch | At the Black Mingo Creek confluence | +15 | Unincorporated Areas of Williamsburg County.
| Approximately 1.0 mile upstream of the Black Mingo Creek confluence | +17
* National Geodetic Vertical Datum.
+ North American Vertical Datum.
# Depth in feet above ground.
‸ Mean Sea Level, rounded to the nearest 0.1 meter.
ADDRESSES
Town of Hemingway
Maps are available for inspection at 110 South Main Street, Hemingway, SC 29554.
Town of Kingstree
Maps are available for inspection at 401 North Longstreet Street, Kingstree, SC 29556.
Town of Lane
Maps are available for inspection at 345 South Lane Road, Lane, SC 29564.
Town of Stuckey
Maps are available for inspection at 17 Cobra Drive, Hemingway, SC 29554.
Unincorporated Areas of Williamsburg County
Maps are available for inspection at 147 West Main Street, Kingstree, SC 29556.

(Catalog of Federal Domestic Assistance No. 97.022, “Flood Insurance.”)

Dated: October 12, 2012.
James A. Walke,
Acting Deputy Associate Administrator for Mitigation, Department of Homeland Security, Federal Emergency Management Agency.

[FR Doc. 2012-27150 Filed 11-6-12; 8:45 am]

BILLING CODE 9110-12-P